DEPARTMENT OF ENERGY

Federal Energy Regulatory Commission

[Docket No. RP02-23-000]

El Paso Natural Gas Company, Complainant, v. Phelps Dodge Corporation, Respondent; Notice of Complaint

October 30, 2001.

Take notice that on October 30, 2001, pursuant to Rule 206 of the Rules of Practice and Procedure of the Federal Energy Regulatory Commission (Commission), 18 CFR 385.206, El Paso Natural Gas Company (EPNG) filed a complaint under section 5 of the Natural Gas Act against Phelps Dodge Corporation (PDC).

EPNG alleges that PDC is responsible for but has refused to pay the cost of a facility expansion required to increase the capacity of EPNG's Silver City lateral in response to increases in the requirements of PDC. EPNG requests that the Commission order PDC to pay the cost of the facilities.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before November 15, 2001. Protests will be considered by the Commission in determining the appropriate action to be taken, but will not serve to make protestants parties to the proceeding. Any person wishing to become a party must file a motion to intervene. Answers to the complaint shall also be due on or before November 15, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-27676 Filed 11-2-01; 8:45 am]

BILLING CODE 6717-01-P